DEPARTMENT OF THE INTERIOR

[RR04900000, 222R0680R1, RR.17549897.2022000.01]

Notice of Intent To Negotiate a Contract Between Utah Water Conservancy District and Department of the Interior for Prepayment of Costs Allocated to Municipal and Industrial Water From the Bonneville Unit of the Central Utah Project, Utah County, Utah

AGENCY: Office of the Assistant Secretary for Water and Science, Interior.

ACTION: Notice of intent.

SUMMARY: The Central Utah Water Conservancy District Intends to prepay a portion of the municipal and industrial repayment obligation associated with the Utah Lake Drainage Basin Water Delivery System, a component of the Bonneville Unit of the Central Utah Project.

DATES: A public meeting to negotiate an amendatory repayment contract will be held at the Central Utah Water Conservancy District in Orem, Utah. The date and time to be announced locally.

ADDRESSES: The public meeting will be held at the Central Utah Water Conservancy District Office, 1426 East 750 North, Suite 400, Orem, Utah 84097.

FOR FURTHER INFORMATION CONTACT: Additional information on matters related to this notice can be obtained by contacting Mr. Wesley James, Program Coordinator, Central Utah Project Completion Act Office, Department of the Interior, 302 East Lakeview Parkway, Provo, Utah 84606; via telephone at (801) 379-1137; or by email at wsjames@usbr.gov.

SUPPLEMENTARY INFORMATION: Public Law 102-575, Central Utah Project Completion Act, Section 210, as amended through Public Law 104-286, stipulates that “the Secretary shall allow for prepayment of the repayment contract between the United States and the Central Utah Water Conservancy District (District) dated December 28, 1965, and supplemented on November 26, 1985, or any additional or supplemental repayment contract providing for repayment of municipal and industrial water delivery facilities of the Central Utah Project for which repayment is provided pursuant to such contract, under terms and conditions similar to those contained in the supplemental contract that provided for the prepayment of the Jordan Aqueduct dated October 28, 1993. The prepayment may be provided in several installments to reflect substantial completion of the delivery facilities being prepaid and may not be adjusted on the basis of the type of prepayment financing utilized by the District.”

In accordance with Public Law 102-575, the District intends to prepay a portion of the municipal and industrial repayment obligation associated with the Utah Lake Drainage Basin Water Delivery System, a component of the Bonneville Unit of the Central Utah Project. The terms of the prepayment are to be publicly negotiated between the District and the Department of the Interior.

Roger Spence,
Acting Program Director, Central Utah Project Completion Act Office, Department of the Interior.

[FR Doc. 2022-15392 Filed 7-18-22; 8:45 am]

BILLING CODE 4332-90-P